NUCLEAR REGULATORY COMMISSION

Office of New Reactors;

Interim Staff Guidance on Evaluation and Acceptance Criteria for 10 CFR 20.1406 to Support Design Certification and Combined License Applications

AGENCY: Nuclear Regulatory Commission (NRC).

ACTION: Solicitation of public comment.

SUMMARY: The NRC is soliciting public comment on its Proposed Interim Staff Guidance (ISG) DC/COL-ISG-06 (ADAMS Accession No. ML081850160). This ISG is to clarify the U.S. Nuclear Regulatory Commission (NRC) position on what is an acceptable level of detail and content for demonstrating compliance with Title 10 of the Code of Federal Regulations Section 20.1406 (10 CFR 20.1406). Regulatory Guide (RG) 4.21, “Minimization of Contamination and Waste Generation: Life Cycle Planning,” provides an acceptable method of demonstrating compliance. This ISG provides further clarification on the evaluation and acceptance criteria that will be used by NRC staff in reaching a reasonable assurance finding that a Design Certification (DC) or Combined License (COL) applicant has complied with the requirements of 10 CFR 20.1406. The NRC staff issues DC/COL-ISGs to facilitate timely implementation of the current staff guidance and to facilitate activities associated with review of applications for DC and COLs by the Office of New Reactors. The NRC staff will also incorporate the approved DC/COL-ISG-006 into the next revision of the Standard Review Plan and related guidance documents.

DATES: Comments must be filed no later than 30 days from the date of publication of this notice in the Federal Register . Comments received after this date will be considered, if it is practical to do so, but the Commission is able to ensure consideration only for comments received on or before this date.

ADDRESSES: Comments may be submitted to: Chief, Rules and Directives Branch, Office of Administration, U.S. Nuclear Regulatory Commission, Washington, DC, 20555-0001.

Comments should be delivered to: 11545 Rockville Pike, Rockville, Maryland, Room T-6D59, between 7:30 a.m. and 4:15 p.m. on Federal workdays. Persons may also provide comments via e-mail to Timothy J. Frye at timothy.frye@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Mr. Timothy J. Frye, Chief, Health Physics Branch, Division of Construction, Inspection, & Operational Programs, Office of the New Reactors, U.S. Nuclear Regulatory Commission, Washington, DC, 20555-0001; telephone 301-415-3900 or e-mail at timothy.frye@nrc.gov.

SUPPLEMENTARY INFORMATION: The agency posts its issued staff guidance in the agency external Web page (http://www.nrc.gov/reading-rm/doc-collections/isg/).

The NRC staff is issuing this notice to solicit public comments on the proposed COL/DC-ISG-006. After the NRC staff considers any public comments, it will make a determination regarding the proposed COL/DC-ISG-006.

Dated at Rockville, Maryland, this 31st day of July 2008.
For the Nuclear Regulatory Commission,
William D. Reckley,
Branch Chief, Rulemaking, Guidance and Advanced Reactors Branch, Division of New Reactor Licensing, Office of New Reactors.

[FR Doc. E8-18012 Filed 8-5-08; 8:45 am]

BILLING CODE 7590-01-P